ENVIRONMENTAL PROTECTION AGENCY

[FRL-10009-12-Region 4]

Underground Injection Control Program; Hazardous Waste Injection Restrictions; Petition for Exemption Reissuance—Class I Hazardous Waste Injection; The Chemours Company, FC, LLC, Chemours Titanium Technologies DeLisle Plant, Pass Christian, Mississippi

AGENCY: Environmental Protection Agency (EPA).

ACTION: Notice of a final decision on a UIC no migration petition reissuance.

SUMMARY: Notice is hereby given that a reissuance of an exemption to the Land Disposal Restrictions, under the 1984 Hazardous and Solid Waste Amendments to the Resource Conservation and Recovery Act, has been granted to The Chemours Company for Class I hazardous waste injection wells located at their Pass Christian, Mississippi facility. The company has adequately demonstrated to the satisfaction of the EPA by the petition reissuance application and supporting documentation that, to a reasonable degree of certainty, there will be no migration of hazardous constituents from the injection zone for as long as the waste remains hazardous. This final decision allows the underground injection by The Chemours Company of the specific restricted hazardous wastes identified in this exemption reissuance request, into Class I hazardous waste injection Wells 2, 3, 4, and 5 until December 31, 2050, unless the EPA moves to terminate this exemption. Additional conditions included in this final decision may be reviewed by contacting the EPA Region 4 Ground Water, UIC, and GIS Section. A public notice was issued November 12, 2019 and the public comment period closed on December 31, 2019, and no comments were received. This decision constitutes final Agency action and there is no Administrative appeal.

DATES: EPA approved the action on February 28, 2020.

ADDRESSES: Copies of the petition reissuance and all pertinent information relating thereto are on file at the following location: Environmental Protection Agency, Region 4, Water Division, Safe Drinking Water Branch, 61 Forsyth Street Northeast, Atlanta, Georgia 30303.

FOR FURTHER INFORMATION CONTACT: Richie Hall, EPA Region 4, Groundwater, UIC, and GIS Section, by mail at the Atlanta street address given above, by telephone at (404) 562-8067, or by email at hall.richard@epa.gov.

Dated: May 8, 2020.
Jeaneanne Gettle,
Director, Water Division, Region 4.

[FR Doc. 2020-10398 Filed 5-14-20; 8:45 am]

BILLING CODE 6560-50-P